DEPARTMENT OF ENERGY

Federal Energy Regulatory Commission

Combined Notice of Filings #2

Take notice that the Commission received the following electric corporate filings:

Docket Numbers: EC16-81-000.

Applicants: Enterprise Solar, LLC, Escalante Solar I, LLC, Escalante Solar II, LLC, Escalante Solar III, LLC, Granite Mountain Solar East, LLC, Granite Mountain Solar West, LLC, Iron Springs Solar, LLC.

Description: Supplement to February 25, 2016 Application for Authorization Under Section 203 of the Federal Power Act and Request for Shortened Comment Period of Enterprise Solar, LLC, et al.

Filed Date: 3/18/16.

Accession Number: 20160318-5060.

Comments Due: 5 p.m. ET 3/28/16.

Take notice that the Commission received the following electric rate filings:

Docket Numbers: ER16-40-001.

Applicants: Nevada Power Company.

Description: Compliance filing: OATT Supplement to Attachment O moving NVE Database to NPC Database to be effective 11/1/2014.

Filed Date: 3/18/16.

Accession Number: 20160318-5119.

Comments Due: 5 p.m. ET 4/8/16.

Docket Numbers: ER16-1233-000.

Applicants: PJM Interconnection, L.L.C.

Description: Section 205(d) Rate Filing: Original Service Agreement No. 4423; Queue Position #AA1-145 to be effective 2/18/2016.

Filed Date: 3/18/16.

Accession Number: 20160318-5115.

Comments Due: 5 p.m. ET 4/8/16.

Take notice that the Commission received the following qualifying facility filings:

Docket Numbers: QF16-561-000.

Applicants: UE-00209NJ.

Description: Form 556 of UE-00209NJ.

Filed Date: 3/18/16.

Accession Number: 20160318-5111.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2016.
Nathaniel J. Davis, Sr.,
Deputy Secretary.

[FR Doc. 2016-06771 Filed 3-24-16; 8:45 am]

BILLING CODE 6717-01-P